DEPARTMENT OF TRANSPORTATION

Federal Motor Carrier Safety Administration

[Docket No. FMCSA-2003-25290]

Commercial Driver's License Standards: Application for Exemption; Isuzu Motors America, Inc. (Isuzu)

AGENCY: Federal Motor Carrier Safety Administration (FMCSA), DOT.

ACTION: Notice of application for exemption; request for comments.

SUMMARY: FMCSA announces that Isuzu Motors America (Isuzu) has applied for an exemption from the Federal requirement for a driver of a commercial motor vehicle (CMV) to hold a commercial driver's license (CDL). Isuzu requests that the exemption cover 27 of its commercial motor vehicle (CMV) drivers who will test-drive CMVs for Isuzu in the United States. Each of these 27 Isuzu employees holds a valid Japanese CDL but lacks the U.S. residency necessary to obtain a CDL from one of the States of the U.S. Isuzu believes the knowledge and skills tests and training program that drivers undergo to obtain a Japanese CDL ensures that these drivers will achieve a level of safety that is equivalent to, or greater than, the level of safety that would be obtained by complying with the exemption.

DATES: Comments must be received on or before September 24, 2008.

ADDRESSES: You may submit comments identified by Federal Docket Management System Number [FMCSA-2003-25290] by any of the following methods:

• Web site: www.regulations.gov. Follow the instructions for submitting comments on the Federal electronic docket site.

• Fax: 1-202-493-2251.

• Mail: Docket Management Facility; U.S. Department of Transportation, Room W-12-140, 1200 New Jersey Avenue, SE., 20590-0001.

• Hand Delivery: Ground Floor, Room W12-140, DOT Building, 1200 New Jersey Avenue, SE., Washington, DC, between 9 a.m. and 5 p.m. e.t., Monday through Friday, except Federal Holidays.

Instructions: All submissions must include the Agency name and docket number. For detailed instructions on submitting comments and additional information on the exemption process, see the Public Participation heading below. Note that all comments received will be posted without change to www.regulations.gov, including any personal information provided. Please see the Privacy Act heading below.

Docket: For access to the docket to read background documents or comments received, go to www.regulations.gov at any time or to the ground floor, room W12-140, DOT Building, 1200 New Jersey Avenue, SE., Washington, DC, between 9 a.m. and 5 p.m., e.t., Monday through Friday, except Federal holidays.

Privacy Act: Anyone is able to search the electronic form of all comments received into any of the our dockets by the name of the individual submitting the comment (or signing the comment, if submitted on behalf of an association, business, labor union, etc.). You may review DOT's complete Privacy Act Statement in the Federal Register published on April 11, 2000 (65 FR 19477) or you may visit www.regulations.gov.

Public Participation: The www.regulations.gov Web site is generally available 24 hours each day, 365 days each year. You can get electronic submission and retrieval help and guidelines under the “help” section of the www.regulations.gov Web site and also at the DOT's http://docketsinfo.dot.gov Web site. If you want us to notify you that we received your comments, please include a self-addressed, stamped envelope or postcard, or print the acknowledgement page that appears after submitting comments online.

FOR FURTHER INFORMATION CONTACT:

Mr. Robert Schultz, Jr., FMCSA Driver and Carrier Operations Division; Office of Bus and Truck Standards and Operations; Telephone: 202-366-4325. E-mail: MCPSD@dot.gov.

SUPPLEMENTARY INFORMATION:

Background

Section 4007 of the Transportation Equity Act for the 21st Century (Pub. L. 105-178, 112 Stat. 107, June 9, 1998) amended 49 U.S.C. 31315 and 31136(e) to provide authority to grant exemptions from motor carrier safety regulations. Under its regulations, FMCSA must publish a notice of each exemption request in the Federal Register (49 CFR 381.315(a)). The Agency must provide the public an opportunity to inspect the information relevant to the application, including any safety analyses. The Agency must also provide an opportunity for public comment on the application.

The Agency reviews the safety analyses and the public comments, and determines whether granting the exemption would likely achieve a level of safety equivalent to, or greater than, the level that would be achieved by complying with the current regulation (49 CFR 381.305). The decision of the Agency must be published in the Federal Register (49 CFR 381.315(b)) with the reason for denying or, in the alternative, the specific person or class of persons receiving the exemption, and the regulatory provision or provisions from which exemption is granted. The notice must also specify the effective period of the exemption (up to 2 years), and explain the terms and conditions of the exemption. The exemption may be renewed (49 CFR 381.300(b)).

Request for Exemption

Isuzu has applied for an exemption from the commercial driver's license (CDL) rules, specifically 49 CFR 383.23 that prescribes licensing requirements for drivers operating commercial motor vehicles (CMVs) in interstate or intrastate commerce. Isuzu requests the exemption because its driver-employees are citizens and residents of Japan, and because they cannot apply for a CDL in any of the United States. A copy of the application is in Docket No. FMCSA-2003-25290. The exemption would allow 27 drivers to operate CMVs in interstate commerce as a team, testing and evaluating production and prototype commercial motor vehicles in the United States in order to assist in the design of safe vehicles for sale in the United States.

The drivers are: Yasushi Akazawa, Kenji Takashima, Kunihisa Nagata, Hidenori Seki, Toshihiko Morikawa, Koichi Uneo, Atsushi Fujiwara, Katsushi Suzuki, Mitsugu Yamamoto, Takashi Nakaya, Takahisa Chiba, Shigeru Kitano, Daisuke Mori, Takahiro Kakizaki, Takamasa Ono, Koichi Sekine, Shinichi Takahashi, Shinya Ogawa, Masamitsu Oohata, Tamotsu Watanabe,Masahito Suzuki, Kazuya Suwa, Hiroshi Yokobori, Tatsuji Kitamura, Shinichi Ishiguro, Takashi Hiromatsu, and Jun Mizushima.

Each driver holds a valid Japanese CDL, and as explained by Isuzu in previous exemption requests, drivers applying for a Japanese-issued CDL must undergo a training program and pass knowledge and skills tests. Isuzu also stated in prior exemption requests that the knowledge and skills tests and training program that Japanese drivers undergo to obtain a Japanese CDL ensure the exemption provides a level of safety that is equivalent to, or greater than, the level of safety obtained by complying with the U.S. requirement for a CDL.

FMCSA has previously determined the process for obtaining a Japanese CDL is comparable to, or as effective as, the Federal CDL knowledge and skills requirements of 49 CFR part 383 as enforced by the States, and adequately assesses the driver's ability to operate CMVs in the U.S. The initial notice of a similar nature was published by FMCSA on October 16, 2003, granting this exemption to Isuzu for 31 Japanese CDL drivers (68 FR 59677).

Request for Comments

In accordance with 49 U.S.C. 31315(b)(4) and 31136(e), FMCSA requests public comment on Isuzu's application for an exemption from the CDL requirements of49 CFR 383.23. The Agency will consider all comments received by close of business on September 24, 2008. Comments will be available for examination in the docket at the location listed under the ADDRESSES section of this notice. The Agency will consider to the extent practicable comments received in the public docket after the closing date of the comment period.

Issued on August 18, 2008.
Larry W. Minor,
Associate Administrator for Policy and Program Development.

[FR Doc. E8-19639 Filed 8-22-08; 8:45 am]

BILLING CODE 4910-EX-P